DEPARTMENT OF TRANSPORTATION

Office of the Secretary

Privacy Act of 1974: System of Records

AGENCY: Office of the Secretary, Department of Transportation (DOT).

ACTION: Notice to modify a system of records.

SUMMARY: DOT proposes to modify an existing system of records under the Privacy Act of 1974. Proposed modifications include changing the name from DOT/SLS 152 Data Automation Program Records to DOT/SLS 152 Travel Voucher Records; deleting some records now covered under Department of the Interior System of Records DOI-85; and updating administrative information.

DATES: Effective date: This notice will be effective, without further notice, on November 21, 2005, unless modified by a subsequent notice to incorporate comments received by the public. Comments must be received by November 14, 2005 to be assured consideration.

ADDRESSES: Send comments to Steven Lott, Departmental Privacy Officer, United States Department of Transportation, Office of the Secretary, 400 7th Street, SW., Room 6106, Washington, DC 20590 or Steven.Lott@dot.gov.

FOR FURTHER INFORMATION CONTACT: Edward Margosian, Office of Finance and Administration, Saint Lawrence Seaway Development Corporation, P.O. Box 520, Massena, New York 13662-0520, 315-764-3275 (voice), 315-764-3235 (fax), or edward.margosian@sls.dot.gov (e-mail).

SUPPLEMENTARY INFORMATION: The Office of Finance and Administration of the Saint Lawrence Seaway Development Corporation operates a travel voucher records system for employees and other individuals who travel on official business for the Corporation. The system of records, which is used to certify, pay and record travel costs, contains personal information about individuals. The following information may be contained in the system: Name, home and/or business address, home and/or business telephone number(s), social security number, and related travel information.

DOT/SLS 152

System name:

Travel Voucher Records.

Security classification:

Sensitive, unclassified.

System location:

This system of record is in the Office of Finance and Administration, P.O. Box 520, 180 Andrews Street, Massena, New York 13662-0520.

Categories of individuals covered by the system of records:

Employees and consultants.

Categories of records in the system:

Travel vouchers.

Authority for maintenance of the system:

5 U.S.C. 301, 44 U.S.C. 3101, 33 U.S.C. 984(a)(4).

Purposes:

This system integrates travel voucher records.

Routine uses of records maintained in the system, including categories of users and the purposes of such uses:

Voucher disbursement: GAO and independent audits.

Disclosure to consumer reporting agencies:

None.

Policies and practices for storing, retrieving, accessing, retaining, and disposing of records in the system:

Storage:

Paper copies and magnetic media (CDs).

Retrievability:

Records are retrieved by name and voucher number.

Safeguards:

Records are kept in locked file cabinets accessible to appropriate supervisor and his/her immediate assistants.

Retention and disposal:

Records are retained in accordance with Government Accountability Office and National Archives and Records Administration requirements. Most paper records are destroyed after a four year period. Paper records used for investigation and enforcement proceedings are maintained for a longer period of time. Electronic records are stored for an indefinite period of time.

System manager and address:

Director of Finance and Administration, Saint Lawrence Seaway Development Corporation, P.O. Box 520, 180 Andrews Street, Massena, N.Y. 13662-0520.

Notification procedure:

Individuals may inquire, in writing, to the System manager.

Record access procedures:

Same as “Notification procedure.”

Contesting record procedures:

Same as “Notification procedure.”

Record source categories:

Information contained in this system would come from Saint Lawrence Seaway Development Corporation records.

Exemptions claimed for the system:

None.

Dated: October 4, 2005.
Steven Lott,
Departmental Privacy Officer.

[FR Doc. 05-20399 Filed 10-11-05; 8:45 am]

BILLING CODE 4910-62-P